PRESIDIO TRUST

Public Health Service Hospital, The Presidio of San Francisco (Presidio), California; Combined Notice To Initiate Public Scoping and Prepare an Environmental Assessment

ACTION: Notice is given, in accordance with the provisions of the National Environmental Policy Act (NEPA) (42 U.S.C. 4321 et seq.), that the Presidio Trust (Trust) is proposing to rehabilitate and reuse historic buildings in the Public Health Service Hospital district (PHSH district or the district) of the Presidio of San Francisco (project). The project also includes the possibility of demolition and limited new replacement construction to accomplish the rehabilitation and reuse of the district's historic buildings. The Trust is commencing preparation of a project-specific environmental assessment (EA), and is inviting the participation of the public and interested agencies as part of the scoping process for the EA.

SUMMARY: The project is an important component of the Presidio Trust Management Plan (PTMP), the Trust's comprehensive land use plan and policy framework for Area B of the Presidio, adopted in August 2002. In the PTMP, the PHSH district was identified as an area for reuse as a residential and educational community. Its centerpiece would be the rehabilitation and reuse of the historic Public Health Service Hospital (PHSH or Building 1801) and of the other historic structures in the district. Future consideration would be given to demolition and new replacement construction up to specified limits.

The district includes the PHSH and its complex of nearby dormitories, offices, residences and recreational buildings on the lower plateau, possibly Battery Caulfield on the upper plateau at the north end of the district, and several outlying building premises. The project is needed to arrest the physical deterioration of the buildings, protect the National Historic Landmark District and rehabilitate the district's structures consistent with the Secretary of Interior's Standards; improve the appearance and vitality of some or all of the district; reuse the buildings consistently with the PTMP land use options; and generate revenue for the long-term operation and improvement of the Presidio. In connection with the project, the Trust will adopt planning and design guidelines, approve a development agreement and lease for buildings and premises within the district, approve associated building and district improvements, and make conforming changes to the PTMP, if any are required.

Building space within the district totals approximately 400,000 square feet (sf). Building 1801 includes a historic structure of approximately 173,000 sf and non-historic additions (or “wings”) totaling approximately 124,700 sf. Pursuant to draft planning and design guidelines, non-historic portions of the hospital building may be removed. Although not required, replacement construction up to an amount equivalent to the square footage removed, not to exceed 130,000 sf, may be considered within the district.

Proposed Alternatives

The following four project alternatives are being considered for evaluation in the EA. These include a “no action” alternative required by the NEPA, which in this case will constitute the land use scenario analyzed in the PTMP EIS. Three action alternatives, each with differences in the treatment of Building 1801 and in the proposed amount and location of demolition and new replacement construction, will also be evaluated. The Trust's selected action at the conclusion of the environmental review process may combine various elements of the alternatives, or fall within the range they represent.

Alternative 1: Rehabilitation/No New Construction (PTMP or No Action Alternative)—This alternative would rehabilitate buildings within the PHSH district to accommodate residential (i.e., a mix of senior housing/assisted living and market rate housing) and educational uses. No building demolition or replacement construction would occur, and therefore the existing total building area of 400,000 sf would be maintained. The historic concentration of development would be retained on the lower plateau (i.e., the PHSH complex). The three-acre Battery Caulfield site, on the northern end of the district on the upper plateau, would remain in the short term as a Trust maintenance/corporation yard. The historic portion of Building 1801 and its non-historic additions (including the seven-story end wings and large one-story connector in front of the original main entry) would be rehabilitated for residential use (approximately 200 units) together with the historic housing on Wyman Terrace (approximately 11 units). Other ancillary buildings in the district would be rehabilitated for a variety of educational and supporting uses. Outlying buildings (Buildings 1450, 1818 and 1819) would remain as Trust maintenance facilities.

Alternative 2: Rehabilitation/Infill Construction—This alternative would rehabilitate historic buildings within the PHSH district, and would concentrate development on the lower plateau primarily for residential use (between 300 and 390 units total). Both the historic portion and non-historic wings of Building 1801 would be rehabilitated. Approximately 17,000 sf of non-historic buildings, including the front connector and the two-story additions at the rear of Building 1801, would be removed and replaced with an equivalent amount of compatible infill construction at locations on the lower plateau that conform to the draft planning and design guidelines. No new buildings would be constructed on the Battery Caulfield site, which would remain in the short term as a Trust maintenance/corporation yard. This alternative may also include a new underground parking facility beneath Building 1801 to increase landscaped open space on the lower plateau.

Alternative 3: Rehabilitation/Demolition—This alternative would rehabilitate historic buildings within the PHSH district, remove the wings of Building 1801, and provide no replacement construction at Battery Caulfield or elsewhere within the district. Total square footage in the district would decrease to approximately 275,000 sf. Buildings would be rehabilitated primarily for residential use (between 210 and 230 units total). The Battery Caulfield site would remain in the short term as a Trust maintenance/corporation yard, and outlying buildings would remain as Trust maintenance facilities.

Alternative 4: Rehabilitation/Relocated Construction—This alternative would rehabilitate historic buildings within the PHSH district, remove the non-historic wings and provide for replacement construction within the Battery Caulfield site primarily for residential uses. Several non-historic buildings including the wings and connector in front of Building 1801, the addition to Building 1802, and Building 1803 would be removed and replaced with an equivalent amount of compatible new residential construction (up to 125 units, not to exceed approximately 115,000 sf) within the lower plateau and within Battery Caulfield (approximately 90 units) for a total of 300 to 350 residential units.

Proposed Scoping and Environmental Review

The EA will tier from the PTMP Environmental Impact Statement (EIS) by incorporating by reference, as appropriate, the information and analysis in the PTMP EIS, and will focus the EA on issues specific to each proposed project alternative. The Trust encourages all interested individuals, organizations and agencies to provide comments on the nature and extent of issues, potential impacts and alternatives to be addressed in the EA. As part of the scoping process, the Trust will conduct a public Trust Board meeting in October or November, at a time and location to be announced, at which the Trust Board will accept oral scoping comments from the public on the proposed action described herein, the alternatives to be studied under the NEPA, and the scope of the EA. For those unable to attend this meeting, an information packet is available upon request (see Contact information below). The Trust will provide informal information updates and notices concerning the project through postings on its Web site at www.presidio.gov, or through its bi-monthly publication, the Presidio Post. The Trust will announce the release of the EA by notice in the Presidio Post, as well as via direct mailing and other means. At this time, it is expected that the EA will be available for public review in January 2004.

Contact

To request the information packet, provide comments or obtain information on meeting locations, please contact John Pelka, NEPA Compliance Coordinator, the Presidio Trust, 34 Graham Street, P.O. Box 29052, San Francisco, CA 94129-0052 (fax: 415/561-2790) or phsh@presidiotrust.gov. NEPA scoping comments must be postmarked or transmitted not later than November 26, 2003.

Dated: September 2, 2003.
Karen A. Cook,
General Counsel.

[FR Doc. 03-22886 Filed 9-8-03; 8:45 am]

BILLING CODE 4310-4R-P